DEPARTMENT OF LABOR

Agency Information Collection Activities; Submission for OMB Review; Comment Request; Occupational Safety and Health Onsite Consultation Agreements

ACTION: Notice of availability; request for comments.

SUMMARY: The Department of Labor (DOL) is submitting this Occupational Safety & Health Administration (OSHA)-sponsored information collection request (ICR) to the Office of Management and Budget (OMB) for review and approval in accordance with the Paperwork Reduction Act of 1995 (PRA). Public comments on the ICR are invited.

DATES: The OMB will consider all written comments that the agency receives on or before January 30, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nicole Bouchet by telephone at 202-693-0213, or by email at DOL_PRA_PUBLIC@dol.gov.

SUPPLEMENTARY INFORMATION: OSHA's On-Site Consultation Service offers free and confidential advice to small and medium-sized businesses in all states across the country, with priority given to high-hazard worksites. Consultation services are totally separate from enforcement and do not result in penalties or citations. The Consultation Program regulations specify services to be provided, and practices and procedures to be followed by the State On-site Consultation Programs. Information collection requirements set forth in the On-site Consultation Program regulations are in two categories: State Responsibilities and Employer Responsibilities.

OSHA is proposing to revise the approved Occupational Safety and Health On-Site Consultation Agreements (29 CFR part 1908), (OMB Control Number 1218-0110), paperwork package to include the approved Process Safety Management On-Site Consultation Agreements (29 CFR 1908), OMB Control Number 1218-0281. For additional substantive information about this ICR, see the related notice published in the Federal Register on September 11, 2024 (89 FR 73727).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OSHA.

Title of Collection: Occupational Safety and Health Onsite Consultation Agreements.

OMB Control Number: 1218-0110.

Affected Public: Private Sector—Businesses or other for-profits; State, Local, and Tribal Governments.

Total Estimated Number of Respondents: 23,116.

Total Estimated Number of Responses: 76,585.

Total Estimated Annual Time Burden: 195,736 hours.

Total Estimated Annual Other Costs Burden: $0.

(Authority: 44 U.S.C. 3507(a)(1)(D))

Nicole Bouchet,
Senior Paperwork Reduction Act Analyst.

[FR Doc. 2024-31428 Filed 12-30-24; 8:45 am]

BILLING CODE 4510-26-P